DEPARTMENT OF HOMELAND SECURITY

Federal Emergency Management Agency

44 CFR Part 67

[Docket ID FEMA-2011-0002; Internal Agency Docket No. FEMA-B-1187]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before July 5, 2011.

ADDRESSES: The corresponding preliminary Flood Insurance Rate Map (FIRM) for the proposed BFEs for each community is available for inspection at the community's map repository. The respective addresses are listed in the table below.

You may submit comments, identified by Docket No. FEMA-B-1187, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Sussex County, Delaware, and Incorporated Areas
Butler Mill Branch | Approximately 500 feet downstream of Woodland Road | None | +5 | Unincorporated Areas of Sussex County.
| At the Horsepen Branch confluence | None | +22
Chapel Branch | Approximately 0.16 mile downstream of Woodland Road | None | +5 | Unincorporated Areas of Sussex County.
| Approximately 0.67 mile upstream of Boyce Road | None | +34
Gravelly Branch | At the Nanticoke River confluence | None | +10 | Unincorporated Areas of Sussex County.
| Approximately 0.06 mile upstream of Deer Forest Road | None | +33
Gum Branch | At the Nanticoke River confluence | None | +22 | Unincorporated Areas of Sussex County.
| Approximately 1.22 miles upstream of Wolf Road | None | +43
Hitch Pond Branch | At the James Branch confluence | None | +19 | Unincorporated Areas of Sussex County.
| Approximately 0.24 mile upstream of Wooten Road | None | +39
Iron Branch | Approximately 450 feet downstream of Handy Road | None | +18 | Unincorporated Areas of Sussex County.
| Approximately 0.3 mile upstream of Hickory Hill Road | None | +30
James Branch | Approximately 0.36 mile downstream of Laurel Road | None | +9 | Unincorporated Areas of Sussex County.
| Approximately 0.51 mile upstream of Whitesville Road | None | +39
Marshy Hope Branch | Approximately 0.87 mile downstream of Noble Road | None | +26 | Unincorporated Areas of Sussex County.
| Approximately 0.16 mile upstream of Hickman Road | None | +33
Nanticoke River | Approximately 586 feet downstream of Old Furnace Road | +7 | +6 | Town of Greenwood, Unincorporated Areas of Sussex County.
| Approximately 0.8 mile upstream of Greenhurst Farm Road | None | +47
Smith-Short and Willing Ditch | At the Gravelly Branch confluence | None | +30 | Unincorporated Areas of Sussex County.
| Approximately 0.05 mile upstream of Russell Road | None | +32
Thompson Branch | At the Hitch Pond Branch confluence | None | +33 | Unincorporated Areas of Sussex County.
| Approximately 0.07 mile upstream of Whaleys Road | None | +38
Toms Dam Branch | At the Gum Branch confluence | None | +27 | Unincorporated Areas of Sussex County.
| Approximately 0.31 mile upstream of Beach Highway | None | +44
Unnamed Tributary of White Marsh Branch | At the White Marsh Branch confluence | None | +43 | Unincorporated Areas of Sussex County.
| Approximately 0.52 mile upstream of Dupont Parkway | None | +53
White Marsh Branch | At the Nanticoke River confluence | None | +43 | Unincorporated Areas of Sussex County.
| Approximately 0.55 mile upstream of Woodyard Road | None | +47
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Greenwood
Maps are available for inspection at the Town Hall, 100 West Market Street, Greenwood, DE 19950.
Unincorporated Areas of Sussex County
Maps are available for inspection at the Sussex County Administrative Office, 2 The Circle, Georgetown, DE 19947.
Gladwin County, Michigan (All Jurisdictions)
Lake Lancer | Entire shoreline | None | +841 | Township of Butman.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Butman
Maps are available for inspection at 5005 North Hockaday Road, Gladwin, MI 48624.

(Catalog of Federal Domestic Assistance No. 97.022, “Flood Insurance.”)

Dated: March 23, 2011.
Sandra K. Knight,
Deputy Federal Insurance and Mitigation Administrator, Mitigation, Department of Homeland Security, Federal Emergency Management Agency.

[FR Doc. 2011-8111 Filed 4-5-11; 8:45 am]

BILLING CODE 9110-12-P